DEPARTMENT OF TRANSPORTATION

Federal Railroad Administration

High-Speed Intercity Passenger Rail (HSIPR) Program

AGENCY: Federal Railroad Administration (FRA), Department of Transportation (DOT).

ACTION: Notice of funding availability.

SUMMARY: On January 28, 2010, President Obama announced the first selections for the High-Speed Intercity Passenger Rail (HSIPR) Program. This notice builds on the program framework established by FRA in the June 23, 2009 interim program guidance (74 FR 29900), and details the application requirements and procedures for obtaining the remaining funds available under the Department of Transportation Appropriations Act of 2009 that have not yet been allocated to projects. This solicitation is only applicable to the remaining FY 2009 funds. FRA has concurrently issued a solicitation for high-speed rail planning activities funded under the Department of Transportation Appropriations Act of 2010, and will release an additional solicitation in the coming months for the construction and corridor program funds provided under the FY 2010 appropriation.

DATES: Applications for funding under this solicitation are due no later than 5 p.m. EST, May 19, 2010 and must be submitted via Grants.gov (see instructions in Section 3.1). See Section 3 for additional information regarding the application process. FRA reserves the right to modify this deadline.

ADDRESSES: Supporting materials that cannot be submitted electronically may be mailed or hand delivered to: U.S. Department of Transportation, Federal Railroad Administration, 1200 New Jersey Avenue, SE., MS-20, Room W38-302, Washington, DC 20590 Att'n. HSIPR Program. Applicants are encouraged to use special courier services to avoid shipping delays. Application forms are available at http://www.fra.dot.gov/Pages/2243.shtml.

FOR FURTHER INFORMATION CONTACT: For further information regarding this notice and the grants program, please contact the FRA HSIPR Program Manager via e-mail at HSIPR@dot.gov, or by mail: U.S. Department of Transportation, Federal Railroad Administration, 1200 New Jersey Avenue, SE., MS-20, Washington, DC 20590 Att'n. HSIPR Program.

Table of Contents

1. Financial Assistance Description

2. Eligibility Information

3. Application and Submission Information

4. Application Review Information

5. Award Administration Information

6. Questions and Clarifications

Appendix 1: Additional Information on Eligibility

Appendix 2: Additional Information on Preliminary Engineering

Appendix 3: Additional Information on Award Administrations

Appendix 4: Additional Information on Applicant Budgets

Section 1: Financial Assistance Description

1.1 Authority

This financial assistance announcement pertains to remaining FY 2009 appropriations for FRA's High-Speed Intercity Passenger Rail (HSIPR) Program. These funds were authorized and appropriated under the Department of Transportation Appropriations Act, 2009 (“FY 2009 DOT Appropriations Act,” Title I of Division I of Pub. L. 111-8, March 11, 2009), under the title Capital Assistance to States—Intercity Passenger Rail Service. The funding opportunities described in this guidance are available under Catalog of Federal Domestic Assistance (CFDA) number 20.317.

1.2 Program Description and Legislative History

As one of President Obama's foremost transportation priorities, the HSIPR Program is intended to help address the nation's transportation challenges by investing in an efficient network of high-speed and intercity passenger rail corridors that connect communities across America. On January 28, 2010, President Obama announced the first recipients selected to receive funding under the HSIPR Program. These initial awards were funded from the $8 billion appropriated under the American Recovery and Reinvestment Act of 2009 (ARRA or Recovery Act) and $90 million appropriated under the FY 2009 DOT Appropriations Act.

However, most HSIPR Program applicants sought funding under the Recovery Act portion of the original solicitation, and there remains a balance of approximately $65 million in FY 2009 funding. This financial assistance announcement is intended to provide prospective applicants with “ready-to-go” projects the opportunity to apply for the remaining FY 2009 funds prior to FRA issuing an application solicitation for FY 2010 construction funds.

1.3 Funding Approach

The FY 2009 DOT Appropriations Act appropriated $90 million for intercity passenger rail grants. These funds were combined with approximately $1.9 million in unobligated FY 2008 funding and $8 billion in ARRA funding for the first HSIPR Program application solicitation that was issued in June 2009. Of these FY 2009 funds, approximately $65 million remains. An additional $2.5 billion was appropriated for the program in FY 2010. FRA is separately soliciting applications for the different components of these appropriations:

1. Residual FY 2009 funds (approximately $65 million): Construction projects with a 50 percent non-Federal match. This solicitation is for these funds.

2. FY 2010 planning funds (up to $50 million): Planning projects with a 20 percent non-Federal match. The notice of funding availability (NOFA) for these funds is being issued concurrently with this solicitation, and can also be found in this edition of the Federal Register.

3. FY 2010 stand-alone projects (up to $245 million) and corridor programs (at least $2,125 million): Stand-alone final design/construction and/or preliminary engineering/NEPA projects and corridor program funding with a 20 percent non-Federal match. The solicitation for these funds is forthcoming.

1.4 General Award Information

The remaining $65 million in FY 2009 HSIPR Program funds are intended to assist States with the capital costs of improving existing intercity passenger rail service and providing new intercity passenger rail service.

FRA will make awards for these intercity passenger rail capital projects through cooperative agreements. Cooperative agreements allow for greater Federal involvement in carrying out the agreed upon investment. The substantial Federal involvement for these projects will include technical assistance, review of interim work products, and increased program oversight.

While there are no predetermined minimum or maximum dollar thresholds for awards, FRA anticipates making one or more awards for the entire $65 million available.

Section 2: Eligibility Information

Applications under this solicitation will be required to meet minimum requirements related to applicant eligibility, project eligibility, and the fulfillment of other prerequisites.

To the extent that an application's substance exceeds the minimum eligibility requirements described below, such qualifications will be considered in evaluating the merits of an application.

2.1 Eligible Applicant Types

Only States, including the District of Columbia, are eligible to apply for funds included in this solicitation.

2.2 Applicant and Key Partner Qualifications

For an application submitted by a State to be considered funding under this program, it must affirmatively demonstrate that the applicant has or will have the legal, financial, and technical capacity to carry out the proposal. Additionally, the applicant must demonstrate that it has or will have satisfactory continuing control over the use of equipment or facilities acquired, constructed, or improved by the project, and the capability and willingness to maintain such equipment or facilities. Further discussion of how applicants can demonstrate compliance with these minimum qualifications appears in Appendix 1.2.

2.3 Cost Sharing and Matching

2.3.1 Treatment of Applicant Cost Sharing

Pursuant to the provisions of the FY 2009 DOT Appropriations Act, the Federal share of the costs of projects issued cooperative agreements under this solicitation may not exceed 50 percent.

If an applicant chooses the option of contributing more than the required 50 percent non-Federal share of the costs of its proposed project from its own or its partner project stakeholders' resources, such additional contributions will be considered in evaluating the merit of its application (See Section 4 for a complete description of evaluation and selection criteria).

2.3.2 Requirements for Applicant Cost Sharing

An applicant's contribution toward the cost of its proposed project may be in the form of cash or, with FRA approval, in-kind contributions of services, supplies, equipment, or real estate. As part of its application, an applicant offering an in-kind contribution must provide a documented estimate of the monetary value of any such contribution, and its eligibility under 49 CFR 18.24.

The applicant must provide as part of its application documentation that demonstrates that it has committed and will be able to fulfill any pledged contribution, including committing any required financial resources that are budgeted or planned at the time the application is submitted. Furthermore, funds from other Federal financial assistance programs may not be used to satisfy the 50 percent match requirement.

2.4 Eligible Projects

Eligible types of projects under this program for remaining FY 2009 HSIPR Program funds include: (1) Acquiring, constructing, or improving equipment, track and track structures, or a facility for use in or for the primary benefit of intercity passenger rail service including high-speed rail service, (2) expenses incidental to the acquisition or construction (including designing, engineering, location surveying, mapping, environmental studies, and acquiring rights-of-way), (3) highway-rail grade crossing improvements related to intercity passenger rail service, (4) mitigating environmental impacts, (5) communication and signalization improvements, and (6) rehabilitating, remanufacturing, or overhauling rail rolling stock and facilities used primarily in intercity passenger rail service.

2.5 Project Completion

All projects funded under this solicitation must be completed within 5 years of obligation.

2.6 Other Prerequisites

2.6.1 General Prerequisites

In general, proposals for remaining FY 2009 HSIPR Program funding must meet the following additional prerequisites:

• Applications must be complete, including all required forms and documentation, as defined in this notice;

• The complete application must demonstrate that the project has been identified through a rational planning process (ideally a High-Speed Intercity Passenger Rail Service Development Plan);

• States must include intercity passenger rail services as an integral part of statewide transportation planning as required under 23 U.S.C. 135;

• The project must be consistent with an overall plan for developing the benefiting High-Speed Intercity Passenger Rail service; and

• The project must result in independent utility.

2.6.2 Prerequisites for Construction Grants

If the applicant is seeking a construction grant, then the application must demonstrate all of the following:

• That Preliminary Engineering (PE) (as defined in Appendix 2 of this notice) has been completed for the proposed project, resulting in project designs that are reasonably expected to conform to all regulatory, safety, security, and other design requirements, including those under the Americans with Disabilities Act (ADA);

• That a Project NEPA document (e.g.,. a Categorical Exclusion worksheet, a completed Environmental Assessment, or a completed final Environmental Impact Statement) has been completed for the proposed project;

• That the applicant has reached, at a minimum, agreements in principle with key project partners, including but not limited to infrastructure-owning railroads and the railroad that operates or will operate the benefiting High-Speed Intercity Passenger Rail service, as to the scope of the proposed project and the realization of the operating benefits (e.g., those reflected in changes to schedules) it is intended to generate;

• That the applicant has developed a project management plan for managing the implementation of the proposed project, including the management and mitigation of project risks; and

• That the applicant has developed a Financial Plan for each phase of service that details the “sources and uses” of both capital and operating funding.

2.6.3 Prerequisites for Equipment Procurement or Design Grants

If the applicant is seeking a grant for the procurement or design of railroad equipment, the proposed equipment should be consistent with Section 305 of PRIIA, which calls for the establishment of a standardized next-generation rail corridor equipment pool. Compliance with Section 305 of PRIIA will assist in creating the economies of scale necessary to achieve the Administration's goal, as outlined in FRA's Strategic Plan, of developing a sustainable railroad equipment manufacturing base in the United States.

2.6.4 Positive Train Control (PTC)

If the project involves improvements to railroad signaling/control systems, then the application must demonstrate that the proposed improvements are consistent with a comprehensive plan for complying with the requirements for PTC implementation under Section 104 of the Rail Safety Improvement Act of 2008 (“RSIA,” Division A of Pub. L. 110-432, October 16, 2008, codified at 49 U.S.C. 20147) and with FRA's final rule on Positive Train Control Systems published in the Federal Register on January 15, 2010 (75 FR 2598).

2.6.5 Inclusion in STIP

Proposed projects must be specifically included in the applicant's Statewide Transportation Improvement Program (STIP) at the time of application to be eligible.

2.7 Eligibility Restrictions

Pursuant to the provisions of the FY 2009 DOT Appropriations Act, applications submitted for the following activities are ineligible to receive funding:

• Applications submitted by private entities (or any entity that is not a State);

• For projects for which commuter rail passenger transportation is the primary intended beneficiary;

• For projects involving the development of State Rail Plans or Passenger Rail Corridor Investment Plan;

• For projects involving the preparation of environmental analyses;

• For projects in which the physical improvements are located outside of the United States; or

• For any expenses associated with passenger rail operating costs of rail operators.

Additional funding use restrictions are fully described in Section 3.4.3 of this notice.

Section 3: Application and Submission Information

3.1 Applying Online

Applications for these funds will be submitted through Grants.gov by 5 p.m. EST on May 19, 2010. Program-specific application forms (identified in Section 3.3 below) may be downloaded from FRA's Web site at http://www.fra.dot.gov/Pages/2243.shmtl.

To apply for funding through Grants.gov, applicants must be properly registered. Complete instructions on how to register and submit an application can be found at Grants.gov. If you experience difficulties at any point during this process, please call the Grants.gov Customer Support Hotline at 1-800-518-4726, Monday-Friday from 7 a.m. to 9 p.m. EST.

Registering with Grants.gov is a one-time process; however, processing delays may occur, and it can take up to several weeks for first-time registrants to receive confirmation and a user password. It is highly recommended that applicants start the registration process as early as possible to prevent delays that may preclude submitting an application package by the application deadline specified. Applications will not be accepted after the due date; delayed registration is not an acceptable reason for extensions. In order to apply for funding under this announcement and to apply for funding through Grants.gov, all applicants are required to complete the following.

1. Acquire a DUNS Number. A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and subrecipients. The DUNS number will be used throughout the grant life cycle. Obtaining a DUNS number is a free, one-time activity. Obtain a DUNS number by calling 1-866-705-5711 or by applying online at http://www.dunandbradstreet.com.

2. Acquire or Renew Registration with the Central Contractor Registration (CCR) Database. All applicants for Federal financial assistance maintain current registrations in the Central Contractor Registration (CCR) database. An applicant must be registered in the CCR to successfully register in Grants.gov. The CCR database is the repository for standard information about Federal financial assistance applicants, recipients, and subrecipients. Organizations that have previously submitted applications via Grants.gov are already registered with CCR, as it is a requirement for Grants.gov registration. Please note, however, that applicants must update or renew their CCR registration at least once per year to maintain an active status, so it is critical to check registration status well in advance of the application deadline. Information about CCR registration procedures can be accessed at http://www.ccr.gov.

3. Acquire an Authorized Organization Representative (AOR) and a Grants.gov Username and Password. Complete your AOR profile on Grants.gov and create your username and password. You will need to use your organization's DUNS number to complete this step. For more information about the registration process, go to http://Grants.gov/applicants/get_registered.jsp.

4. Acquire Authorization for your AOR from the E-Business Point of Contact (E-Biz POC). The E-Biz POC at your organization must log in to Grants.gov to confirm you as an AOR. Please note that there can be more than one AOR for your organization.

5. Search for the Funding Opportunity on Grants.gov. Please use the following identifying information when searching for the funding opportunity on Grants.gov. The Catalog of Federal Domestic Assistance (CFDA) number for this solicitation is #20.317, titled “Capital Assistance to States—Intercity Passenger Rail Service”.

6. Submit an Application Addressing All of the Requirements Outlined in this Funding Availability Announcement. Within 24 to 48 hours after submitting your electronic application, you should receive an e-mail validation message from Grants.gov. The validation message will tell you whether the application has been received and validated or rejected, with an explanation. You are urged to submit your application at least 72 hours prior to the due date of the application to allow time to receive the validation message and to correct any problems that may have caused a rejection notification.

Note: When uploading attachments please use generally accepted formats such as .pdf, .doc, .docx, .xls, .xlsx and .ppt. While you may imbed picture files such as .jpg, .gif, and .bmp, in your document files, please do not submit attachments in these formats. Additionally, the following formats will not be accepted: .com, .bat, .exe, .vbs, .cfg, .dat, .db, .dbf, .dll, .ini, .log, .ora, .sys, and .zip.

Experiencing Unforeseen Grants.gov Technical Issues

If you experience unforeseen Grants.gov technical issues beyond your control that prevent you from submitting your application by the deadline, you must contact FRA staff at HSIPR@dot.gov within 24 hours after the deadline and request approval to submit your application. At that time, FRA staff will require you to e-mail the complete grant application, your DUNS number, and provide a Grants.gov Help Desk tracking number(s). After FRA staff review all of the information submitted, as well as contact the Grants.gov Help Desk to validate the technical issues you reported, FRA staff will contact you to either approve or deny your request to submit a late application. If the technical issues you reported cannot be validated, your application will be rejected as untimely.

To ensure a fair competition for limited discretionary funds, the following conditions are not valid reasons to permit late submissions: (1) Failure to complete the registration process before the deadline date; (2) failure to follow Grants.gov instructions on how to register and apply as posted on its Web site; (3) failure to follow all of the instructions in the funding availability notice; and (4) technical issues experienced with the applicant's computer or information technology (IT) environment.

3.2 Address To Request/Submit Application Package

If Internet access is unavailable, please write to FRA at the following address to request a paper application: U.S. Department of Transportation, Federal Railroad Administration, Attn. HSIPR Program Information (RDV-10), Mail Stop 20, 1200 New Jersey Ave., SE., Washington, DC 20590.

For supporting documentation (described in Section 3.3.1.1) that an applicant is unable to submit electronically (such as oversized engineering drawings), applicants may submit an original and two copies to the above address. However, due to delays caused by enhanced screening of mail delivered via the U.S. Postal Service, applicants are advised to use other means of conveyance (such as courier service) to assure timely receipt of materials.

3.3 Content and Form of Application

3.3.1 Application Package Components

The application package for HSIPR Program planning applications contains five required components:

1. HSIPR FD/Construction Application Form.

2. HSIPR Project Budget and Schedule Form.

3. OMB Standard Application Forms.

4. FRA's Assurances Document.

5. Required Supporting Documentation.

Applicants must complete all five required components of the application package; failure to do so may result in the application being removed from consideration for award. All five components of the application package must be submitted through Grants.gov.

Applicants may also submit additional documentation to support the merits of their applications. Inclusion of such supporting documentation is optional.

3.3.1.1 HSIPR FD/Construction Application Form

The most significant component of the application package is the HSIPR FD/Construction Application Form, into which the applicant enters specific information about the proposed project. The form includes fields that have been developed by FRA to capture pertinent qualitative and quantitative program-specific information that is needed for FRA to confirm applicant and project eligibility, as well as information needed for evaluation and selection of applications. The HSIPR FD/Construction Application Form requests two types of information:

1. General applicant and project information.

2. Narratives that allow the applicant to make arguments on the benefits of its proposed project and other factors that are used to evaluate the merits of the application (See Section 4.2 for evaluation criteria).

The HSIPR FD/Construction Application Form is available from FRA's Web site at: http://www.fra.dot.gov/Pages/2243.shmtl. Applicants should download and complete the form and submit as an attachment in Grants.gov.

To support the Application Form, FRA welcomes the submission of any other available supporting documentation that may have been developed by the applicant. The format and structure of any additional supporting documents is at the discretion of the applicant. Optional supporting documentation may be provided one of two ways—(1) as attachments to the application or (2) in hard copy for materials that cannot otherwise be provided electronically.

3.3.1.2 HSIPR Project Budget and Schedule Form

The HSIPR Project Budget and Schedule Form is a MS Excel document that supports the qualitative and quantitative claims made in the applicant's HSIPR FD/Construction Application Form. In addition to capturing detailed project budget and schedule information, the form also describes the standard cost categories developed by FRA to assist in evaluating and comparing projects. Pursuant to 49 U.S.C. 24402(g), FRA reserves the right to request changes to project scopes, schedules, and budgets of selected projects. See Appendix 4 for more information on preparing project budgets.

3.3.1.3 OMB Standard Application Forms

The Standard Forms are developed by OMB and are required of all grant applicants. These forms should be submitted electronically through Grants.gov.

• Standard Form 424, Application for Federal Assistance.

• Standard Form 424A, Budget Information—Non-Construction Programs.

• Standard Form 424B, Assurances—Non-Construction Programs.

• Standard Form 424C, Budget Information—Construction.

• Standard Form 424D, Assurances—Construction Programs.

All applications for construction projects must use Standard Forms 424C and 424D. If the application is for equipment procurement or refurbishment, the applicant should instead use Standard Forms 424A and 424B. All applications should also complete Standard Form 424, regardless of project type.

3.3.1.4 FRA Assurances Document

FRA's assurances document contains standard Department certifications on grantee suspension and debarment, drug-free workplace requirements, and Federal lobbying. The FRA Assurances document can be obtained from FRA's Web site at http://www.fra.dot.gov/downloads/admin/assurancesandcertifications.pdf. The document should be signed by an authorized certifying official for the applicant, scanned into electronic format, and submitted as an attachment to the application in Grants.gov.

3.3.1.5 Required Supporting Documentation

FRA requires the submission of the following additional supporting documentation for remaining FY 2009 HSIPR Program construction applications:

• Preliminary Engineering (PE) Materials—Applicants should provide any documents that demonstrate the PE status (or final design status, if completed) of the proposed project. The PE requirements are detailed in Appendix 2.

• National Environmental Policy Act (NEPA) Documentation—Applicants should provide any documents (e.g. a Categorical Exclusion worksheet, a completed Environmental Assessment, or a completed final Environmental Impact Statement) that demonstrate the NEPA status of the proposed project.

• Project Management Plan—Applicants should provide a project management plan (or equivalent) that documents assumptions and decisions regarding the communication, management processes, execution and overall project control.

• Stakeholder Agreements—Applicants should provide documents that demonstrate the status of all stakeholder agreements including agreements with interstate partners, host railroads, right-of-way owners and contract railroad operator providing service. The form and structure of the stakeholder agreements are at the discretion of the applicant, however, agreements should satisfy the eligibility and award requirements listed in Appendix 1.1.

• Financial Plan—Applicants should provide a financial plan (or equivalent).

3.3.1.6 Other Required Documentation

For any other documentation required prior to award that is not specified in this notice, FRA will make individual arrangements with applicants for the submission of the required documentation.

3.3.2 Additional Information Required Prior to Award

3.3.2.1 Construction Projects

A project NEPA determination document (a Record of Decision, Finding of No Significant Impact, or CE determination) must have been issued by FRA prior to award of a construction grant.

3.3.2.2 All Projects

Applicants are required to submit comprehensive executed partnership agreements, fulfilling all requirements for such agreements as set forth in Appendix 1.1, prior to award.

3.4 Additional Application Information

3.4.1 Submission Dates and Times

Complete applications must be submitted to Grants.gov (as specified in Section 3.1) no later than 5 p.m. EST, May 19, 2010. Grants.gov will send the applicant an automated e-mail confirming receipt of the application. Supporting documentation that cannot be submitted electronically may be sent by courier service with a waybill receipt stamped no later than 5 p.m. EST, May 19, 2010. FRA will e-mail the applicant to confirm receipt of supporting documentation sent by courier service.

Subject to demonstration of unanticipated extenuating circumstances, FRA may consider application materials submitted after the deadlines prescribed above.

FRA reserves the right to contact applicants with any concerns, questions, or comments related to applications.

3.4.2 Intergovernmental Review

This program has not been designated as subject to Executive Order 12372, pursuant to 49 CFR part 17.

3.4.3 Funding Restrictions

In general, only those costs considered allowable pursuant to OMB Circular A-87, “Cost Principles for State, Local, and Indian Tribal Governments” (codified at 2 CFR part 225) will be considered for funding. Additionally, the following funding restrictions will apply to cooperative agreements, and must be taken into consideration in the development of budget information submitted as part of applications.

• Funding may not be used to fund expenses associated with the operation of intercity passenger rail service;

• Funding may not be used for first-dollar liability costs for insurance related to the provision of intercity passenger rail service;

• While there is no cap on grant recipient's use of grant funds for management and administrative costs, such costs must be allowable, reasonable, allocable, and in accordance with applicable OMB cost principles cited above.

FRA will also consider reimbursement of pre-award costs incurred as early as the enactment of the FY 2009 DOT Appropriations Act (March 11, 2009). However, such costs will be considered for reimbursement only to the extent that they are otherwise allowable under the applicable cost principles, and involve either eligible activities (e.g. FD), or construction activities that were subject to a NEPA determination made by FRA prior to the commencement of such construction activities. Projects for which construction activities commenced prior to receipt of an FRA environmental determination under NEPA will not be eligible for funding.

Section 4: Application Review Information

4.1 Review Criteria

Complete applications are due by 5 p.m. EST, May 19, 2010. All applications will proceed through a three-step process:

1. Screening for completeness and eligibility;

2. Evaluation review by a technical panel applying “evaluation criteria;” and

3. Final review and selection by the FRA Administrator, applying “selection criteria.”

All applications will first be screened for completeness, and applicant and project eligibility. Applications determined to be both complete and eligible will be referred to a technical panel consisting of subject-matter experts for a merit-based evaluation review. The panels will be comprised of professional staff employed by FRA and other DOT modal administrations, as appropriate.

Applications will be individually reviewed and assessed against the evaluation criteria outlined in Section 4.2. For each of the criteria, the panel will assign a rating of between zero and three points, based on the application's fulfillment of the objectives of each criterion. These individual criterion ratings will then be combined according to priority of criteria, to arrive at an overall rating for the application.

The evaluation criteria, in order of priority, are:

1. Transportation Benefits.

2. Project Management Approach.

3. Sustainability of Benefits.

4. Timeliness of Project Completion.

5. Other Public Benefits.

In addition to the ratings assigned by the technical evaluation panels, the FRA Administrator may take into account several cross-cutting and comparative selection criteria to determine awards. The Administrator will review the preliminary results to ensure that the scoring has been applied consistently, and that the collective results meet several key priorities essential to the success and sustainability of the program (see Section 4.3). The four selection criteria are:

1. Region/Location.

2. Innovation/Resource Development.

3. Partnerships/Participation.

4. Prior HSIPR Funding Decisions and/or State Investments.

4.2 Evaluation Criteria

Careful economic analysis that quantifies and demonstrates the monetary value of user benefits and, if available, public benefits will be particularly useful to FRA in evaluating the applications. The systematic process of comparing expected benefits and costs helps decision-makers organize information about, and evaluate trade-offs between, alternative transportation investments. FRA will consider benefits and costs using standard data provided by applicants and seek to evaluate applications in a manner consistent with Executive Order 12893, Principles for Federal Infrastructure Investments, 59 FR 4233, to base infrastructure investments on systematic analysis of expected benefits and costs, including both quantitative and qualitative measures.

4.2.1 Transportation Benefits

Evaluation against this criterion will consider the qualitative factors outlined below, as supported by key quantitative metrics. As described in Section 3, applicants must provide information quantifying the anticipated benefits of the proposed project using service output data (delay reduction, schedule improvement, or capacity increases).

Each application will be assessed based on its demonstration of the proposed project's potential to meet the purpose and need and to achieve transportation benefits in a cost-effective manner, as set forth through the President's strategic transportation goals and the objectives of PRIIA. Factors to be considered in assigning a rating will include the contribution the proposed project would make to:

• Supporting the development of intercity high-speed rail service;

• Generating improvements to intercity passenger rail service, as reflected by estimated increases in ridership (as measured in passenger-miles), increased on-time performance (as measured in reductions in delays), reduced trip time, additional service frequency to meet anticipated or existing demand, and other factors;

• Generating cross-modal benefits, including anticipated favorable impacts on air or highway traffic congestion, capacity, or safety, and cost avoidance or deferral of planned investments in aviation and highway systems;

• Creating an integrated intercity passenger rail network, including integration with existing intercity passenger rail services, allowance for and support of future network expansion, and promotion of technical interoperability and standardization (including standardizing operations, equipment and signaling);

• Encouragement of intermodal integration through provision of direct, efficient transfers among intercity transportation and local transit networks at train stations, including connections at airports, bus terminals, subway stations, ferry ports, and other modes of transportation;

• Enhancing intercity travel options;

• Ensuring a state of good repair of key intercity passenger rail assets;

• Promoting standardized equipment (or rolling stock), signaling, communications and power;

• Improved freight or commuter rail operations, in relation to proportional cost-sharing (including donated property) by those other benefiting rail users;

• Equitable financial participation in the project's financing, including, but not limited to, consideration of donated property interests or services; financial contributions by freight and commuter rail carriers commensurate with the benefit expected to their operations; and financial commitments from host railroads, non-Federal governmental entities, nongovernmental entities, and others; and

• The overall safety of the transportation system, including the encouragement of the use of PTC technologies, and commitments by States or railroads of financial resources to improve the safety of highway/rail grade crossings over which intercity passenger rail service operates.

4.2.2 Project Management Approach

Applications will be evaluated against the following criterion to assess the proposed project's likelihood of successful implementation and realization of benefits. Each application will be assessed to determine the risk associated with the project's delivery within budget, on time, and as designed. Evaluation against these criteria will consider the factors outlined below, which take into account the thoroughness and quality of the supporting documentation submitted with the application.

• The applicant's financial, legal, and technical capacity to implement the project including whether the application depends upon receipt of any waiver(s) of Federal railroad safety regulations that have not been obtained;

• The applicant's experience in administering similar grants and projects;

• The soundness and thoroughness of the cost methodologies and assumptions, and estimates for the proposed project;

• The adequacy of any completed engineering work to assess and manage/mitigate the proposed project's engineering and constructability risks;

• The reasonableness of the schedule for project implementation;

• The thoroughness and quality of the project management plan;

• The sufficiency of system safety and security planning;

• The timing and amount of the project's future noncommitted investments;

• The project's progress, at the time of application, towards compliance with environmental protection requirements; and

• The comprehensiveness and sufficiency, at the time of application, of agreements with key partners (particularly infrastructure owning railroads) that will be involved in implementing the project; and

• The overall completeness and quality of the application, including the comprehensiveness of its supporting documentation.

4.2.3 Sustainability of Benefits

Each application will be assessed based on the risk associated with the proposed project's capacity to generate, as planned, its anticipated transportation and economic benefits. Factors to be considered in assigning a rating will include:

• The presence and quality of a Financial plan that analyzes the financial viability of the proposed rail service;

• The quality and reasonableness of revenue and operating and maintenance cost forecasts for the benefiting Intercity Passenger Rail service(s);

• The availability of any required operating financial support preferably from dedicated funding sources for the benefiting Intercity Passenger Rail service(s);

• The quality and adequacy of project identification and planning;

• The reasonableness of estimates for user and non-user benefits for the project;

• The reasonableness of the operating service plan, including its provisions for protecting the future quality of other services sharing the facilities to be improved;

• The comprehensiveness and sufficiency, at the time of application, of agreements with key partners (including the railroad operating the Intercity Passenger Rail service as well as infrastructure-owning railroads) that will be involved in the operation of the benefiting Intercity Passenger Rail service, including the commitment of any affected host-rail carrier to ensure the realization of the anticipated benefits, preferably through a commitment by the affected host-rail carrier(s) to an enforceable on-time performance of passenger trains of 80 percent or greater; and

• The applicant's contribution of a cost share greater than the required minimum of 50 percent.

4.2.4 Timeliness of Project Completion

Each application will be assessed based on the timeliness of its implementation schedule, including:

• The readiness of the project to be commenced; and

• The timeliness of project completion and the realization of the project's anticipated benefits.

4.2.5 Other Public Benefits

Each application will be assessed based on its demonstration of the proposed project's potential to achieve other public benefits in a cost-effective manner. Factors to be considered in assigning a rating will include the contribution the proposed project would make to:

• Environmental quality and energy efficiency and reduction in dependence on foreign oil, including use of renewable energy sources, energy savings from traffic diversions from other modes, employment of green building and manufacturing methods, reductions in key emissions types, and the purchase and use of environmentally sensitive, fuel-efficient, and cost-effective passenger rail equipment; and

• Promoting livable communities, including integration with existing high-density, livable development (e.g., central business districts with public transportation, pedestrian, and bicycle distribution networks, and incorporation of transit-oriented development).

4.3 Election Criteria

4.3.1 Region/Location

• Ensuring appropriate level of regional balance across the country.

• Ensuring promotion of livable communities in urban and rural locations.

• Ensuring consistency with national transportation and rail network objectives.

• Ensuring integration with other rail services and transportation modes.

4.3.2 Innovation/Resource Development

• Pursuing new technology and innovation where the public return on investment is favorable, while ensuring delivery of near-term transportation, public and economic recovery benefits.

• Advancing the state of the art in modeling techniques for assessing potential intercity passenger rail costs and benefits.

• Promoting domestic manufacturing, supply and industrial development, including U.S.-based manufacturing and supply industries.

• Developing professional railroad engineering, operating, planning and management capacity needed for sustainable high-speed intercity passenger rail development.

4.3.3 Partnerships/Participation

• Where corridors span multiple States, emphasizing those that have organized multi-State partnerships with joint planning and prioritization of investments.

• Employing creative approaches to ensure workforce diversity and use of disadvantaged and minority business enterprises.

• Engaging local communities and a variety of other stakeholder groups in the project, where applicable.

4.3.4 Prior HSIPR Funding Decisions and/or State Investments

• Assessing how a proposed project would complement previous construction or planning grants made by the HSIPR program.

• Assessing how the proposed project would complement previous State investments in high-speed intercity passenger rail.

Section 5: Award Administration Information

5.1 Award Notices

Upon approval of an application, notification will be sent to the grant recipient through Grants.gov and via a mailed letter.

FRA will publicly announce selected projects. For projects that were not selected, FRA will notify the applicants of the decision and provide the following:

• Suggestions on application revisions for any subsequent resubmission rounds (if desired by applicant); and

• Guidance regarding subsequent rounds of funding.

5.2 Administrative and National Policy Requirements

Grant recipients must follow all administrative and national policy requirements including: procurement standards, compliance with Federal civil rights laws and regulations, disadvantaged business enterprises (DBE), debarment and suspension, drug-free workplace, FRA's and OMB's Assurances and Certifications, ADA, buy America, environmental protection, NEPA, and environmental justice. For additional details on these administrative and national policy requirements, please refer to FRA's HSIPR Notice of Grant Award Example under the high-speed rail link on FRA's Web page at http://www.fra.dot.gov/Pages/2243.shmtl, which includes a sample copy of FRA's current model grant/cooperative agreement.

5.3 General Requirements

Grant recipients must comply with reporting requirements. All post-award information pertaining to reporting, auditing, monitoring, and the close-out process is detailed in Appendix 3.1.

5.4 Freedom of Information Act (FOIA)

As a Federal agency, the FRA is subject to the Freedom of Information Act (FOIA) (5 U.S.C. 552), which generally provides that any person has a right, enforceable in court, to obtain access to Federal agency records, except to the extent that such records (or portions of them) are protected from public disclosure by one of nine exemptions or by one of three special law enforcement record exclusions. Grant applications and related materials submitted by applicants pursuant to this guidance would become agency records and thus subject to the FOIA and to public release through individual FOIA requests. FRA also recognizes that certain information submitted in support of an application for funding in accordance with this guidance could be exempt from public release under FOIA as a result of the application of one of the FOIA exemptions, most particularly Exemption 4, which protects trade secrets and commercial or financial information obtained from a person that is privileged or confidential (5 U.S.C. 552(b)(4)). In the context of this grant program, commercial or financial information obtained from a person could be confidential if disclosure is likely to cause substantial harm to the competitive position of the person from whom the information was obtained (see National Parks & Conservation Ass'n v. Morton, 498 F.2d 765, 770 (DC Cir. 1974)). Entities seeking exempt treatment must provide a detailed statement supporting and justifying their request and should follow FRA's existing procedures for requesting confidential treatment in the railroad safety context found at 49 CFR 209.11. As noted in the Department's FOIA implementing regulation (49 CFR part 7), the burden is on the entity requesting confidential treatment to identify all information for which exempt treatment is sought and to persuade the agency that the information should not be disclosed (see 49 CFR 7.17). The final decision as to whether the information meets the standards of Exemption 4 rests with the FRA.

Section 6: Questions and Clarifications

Questions about this guidance and the application process should be submitted to the HSIPR Program Manager via e-mail at HSIPR@dot.gov.

List of Acronyms
Acronym | Meaning
ACF | Administration for Children and Families.
ADA | Americans with Disabilities Act.
ARRA | American Recovery and Reinvestment Act of 2009 (Public Law 111-5).
CAST | Custom Applications Support and Training Unit (GrantSolutions).
CCR | Central Contractor Registration database.
CE | Categorical Exclusion—a class of action for the NEPA process.
CFS report | Commercial Feasibility Study, Federal Railroad Administration, High-Speed Ground Transportation for America, September 1997; available at: http://www.fra.dot.gov/us/content/515.
Department | The U.S. Department of Transportation.
DUNS | Data Universal Number System.
EA | Environmental Assessment—a NEPA document.
EIS | Environmental Impact Statement—the most extensive type of NEPA document.
FD | Final Design.
FONSI | Finding of No Significant Impact—a possible decision concluding the NEPA process.
FRA | Federal Railroad Administration—an Operating Administration of the U.S. Department of Transportation.
FTA | Federal Transit Administration.
FY | Fiscal Year.
FY 2008 DOT Appropriations Act | Transportation, Housing and Urban Development, and Related Agencies Appropriations Act, 2008—Title I of Division K of Public Law 110-161, December 26, 2007.
FY 2009 DOT Appropriations Act | Transportation, Housing and Urban Development, and Related Agencies Appropriations Act, 2009—Title I of Division I of Public Law 111-8, March 11, 2009.
FY 2010 DOT Appropriations Act | Transportation, Housing and Urban Development, and Related Agencies Appropriations Act, 2010—Title I of Division A of Public Law 111-117, December 16, 2009.
GS | GrantSolutions Grants Management System.
ICC | Interstate Commerce Commission.
LOI | Letter of Intent.
mph | Miles per Hour.
NEPA | National Environmental Policy Act.
NTD | National Transit Database.
OTP | On-time performance.
PE | Preliminary engineering.
PRIIA | Passenger Rail Investment and Improvement Act of 2008 (Division B of Public Law 110-432).
PTC | Positive Train Control.
ROD | Record of Decision—a possible decision concluding of the NEPA process.
RSIA | Rail Safety Improvement Act of 2008 (Division A of Pub. L. 110-432, October 16, 2008).
State DOT | State Department of Transportation.
State Capital Grant Program | Capital Assistance to States—Intercity Passenger Rail Service program—established in FY 2008 DOT Appropriations Act and continued in the FY 2009 DOT Appropriations Act.

Appendix 1: Additional Information on Eligibility

Appendix 1.1 Minimum Qualifications for Applicant Eligibility

An applicant must, in addition to demonstrating that it is of an eligible type for the project, affirmatively demonstrate that it has or will have the legal, financial, and technical capacity to carry out the proposal. In addition, the applicant must demonstrate that it has or will have satisfactory continuing control over the use of equipment or facilities acquired, constructed, or improved by the project, and the capability and willingness to maintain such equipment or facilities.

In the following discussion of the means by which applicants can satisfy these minimum requirements, the term “project” refers generally to the substance of the applicant's proposal.

For an applicant to demonstrate the legal, financial, and technical capacity to carry out its proposed project, it will be required to address the following qualifications:

• The applicant's ability to absorb potential cost overruns or financial shortfalls.

• The applicant's experience in effectively administering grants of similar scope and value (including timely completion of grant deliverables, compliance with grant conditions, and quality and cost controls); and

• The applicant's experience in managing railroad investment projects of a nature similar to that for which funding is being requested.

For an applicant to demonstrate that it has or will have satisfactory continuing control over the use of equipment or facilities acquired, constructed, or improved by the project, it will be required to show either:

• That the applicant has or will have direct ownership of the equipment or facilities acquired, constructed, or improved by the project; or

• That the applicant has secured or has made progress towards securing and will have contractual agreements in place with the entity or entities (e.g., a local government, or one or more private railroads) that have or will have direct ownership of such assets.

For an applicant to demonstrate that it has or will have the capability and willingness to maintain the equipment or facilities acquired, constructed, or improved by the project, it will be required to show:

• That it has made progress towards, and will have contractual agreements in place with, any entity or entities (e.g., a local government, or one or more private railroads) that have or will have direct ownership of the equipment or facilities acquired, constructed, or improved by the project, which address financial and operational responsibility for asset maintenance;

• That to the extent financial responsibility will fall to the applicant, the applicant has the ability to cover maintenance costs; and

• The applicant's experience in maintaining assets with similar financial and operational maintenance requirements as those for the assets for which funding is being requested;

Information and documentation demonstrating the fulfillment of the minimum qualifications described above will be required to be submitted as part of full application.

Appendix 1.2 Definition of Intercity Passenger Rail

“Intercity rail passenger transportation” is defined at 49 U.S.C. 24102(4) as “rail passenger transportation except commuter rail passenger transportation.” Likewise, “commuter rail passenger transportation” is defined at 49 U.S.C. 24102(3) as “short-haul rail passenger transportation in metropolitan and suburban areas usually having reduced fare, multiple ride, and commuter tickets and morning and evening peak period operations.” In common use, the general definition of “rail passenger transportation” excludes types of local or regional rail transit such as light rail, streetcars, and heavy rail. Similarly, both Intercity Passenger Rail transportation and commuter rail passenger transportation exclude single-purpose scenic or tourist railroad operations.

The since-terminated Interstate Commerce Commission (ICC) established six features to aid in classifying a service as “commuter” rather than “intercity” rail passenger transportation: ¹

¹ Penn Central Transportation Company Discontinuance or Change in Service of 22 Trains between Boston, Mass, and Providence R.I., February 10, 1971, I.C.C. 338, 318-333.

• The passenger service is primarily being used by patrons traveling on a regular basis either within a metropolitan area or between a metropolitan area and its suburbs;

• The service is usually characterized by operation performed at morning and peak periods of travel;

• The service usually honors commutation or multiple-ride tickets at a fare reduced below the ordinary coach fare and carries the majority of its patrons on such a reduced fare basis;

• The service makes several stops at short intervals either within a zone or along the entire route;

• The equipment used may consist of little more than ordinary coaches; and

• The service should not extend more than 100 miles at the most, except in rare instances; although service over shorter distances may not be commuter or short haul within the meaning of this exclusion.

FTA further refined the definition of commuter rail in the glossary for its National Transit Database (NTD) ² Reporting Manual. In particular, FTA refined the ICC's third “feature” by specifying that “predominantly commuter [rail passenger] service means that for any given trip segment (i.e., distance between any two stations), more than 50 percent of the average daily ridership travels on the train at least three times a week.”

² In addition to serving as a reference database, the NTD captures data that serve as the basis for apportioning and allocating funding to eligible grantees under FTA's formula grant programs.

In judging the eligibility of an application under this solicitation, FRA will determine whether the rail passenger service that is primarily intended to benefit from the proposal constitutes “intercity passenger rail transportation” under the statutory definition and ICC and FTA interpretations. FRA may also take into account whether the primary intended benefiting service has been or is currently the direct and intended beneficiary of funding provided by another Federal agency (e.g., FTA) for the purpose of improving commuter rail passenger transportation and whether the service in question is or will be operated by or on behalf of a local, regional, or State entity whose primary rail transportation mission is the provision of commuter or transit service.

Appendix 2: Additional Information on Preliminary Engineering

PE completion is a prerequisite for projects submitted under this solicitation. PE entails sufficient engineering design to define a project, including identification of all environmental impacts, design of all critical project elements at a level sufficient to assure reliable cost estimates and schedules (in turn sufficient to complete project management and financial plans), and definition of procurement requirements and strategies.

The PE development process starts with the evaluation of project design alternatives (a range of rail improvements, specific alignments, and project designs) sufficient to support subsequent NEPA analysis. The NEPA environmental determination is a prerequisite for FRA to obligate construction funds. FRA acknowledges the complexity of the work required for PE, and that it will vary depending on the project scope. Thus, FRA does not pre-determine the form and structure of the PE work. FRA has opted to specify the illustrative contents of PE—thus allowing the applicant discretion to pursue the most workable approach tailored to its needs and suitable for the proposed project.

PE results in detailed estimates of project costs, benefits, and impacts of the preferred alternative that merit a higher degree of confidence than those prepared in earlier stages of planning. FRA considers that PE for a major capital investment project is complete when:

• The signed environmental Record of Decision (ROD) or Finding of No Significant Impact (FONSI) signals that the NEPA process has been completed;

• The project scope, capital cost estimates, and financial plan are finalized;

• The project sponsor has adequately demonstrated its technical capability to advance the project into FD and construction;

• The project sponsor has adequately demonstrated its process and schedule for filing any safety regulatory waivers necessary to implement the project; and

• The project sponsor has provided an adequate system safety program plan and any necessary collision/derailment hazard analysis.

The products of PE will include: Engineering designs; a detailed project description, including provisions for compliance with the ADA; a highly accurate project cost estimate (including a description of methodologies and assumptions employed in developing the estimate) that identifies major components and that includes contingencies that are reduced from previous estimates and are broken down by phase and functional area, a thorough project management plan suitable for this phase of project development; and a solid project financial plan that includes Federal and non-Federal funding committed to the project.

PE documentation will typically include: (1) Scale maps or scale aerial photography of existing conditions at a scale of one inch = 100 to 500 feet depending on location (built-up vs. undeveloped areas); and (2) design plan drawings overlaid on the maps/photography. These design drawings will typically show: (i) Existing railroad right-of-way limits along with the railroad ownership; (ii) Proposed track changes including track removals and track installations showing track centers, turnout sizes, curve and spiral data, etc.; (iii) Vertical profiles and grades of existing and proposed construction; (iv) Public and private at-grade highway crossings; and (v) Passenger stations, building(s), platforms, parking, access to the primary highway system in the area, and public transit services and facilities.

The detailed project description developed in the PE typically includes an assessment of the physical condition and location of the existing project area (generally two to three miles beyond the project construction limits) and elements associated with the design(s). These elements may include: Bridges (rail and highway); track including the number and location of previously existing railroad tracks on a roadbed; buildings (stations and maintenance facilities, etc.); signal systems and interlocked detectors, switches, derails, and snow melters; utility systems on, over, adjacent to or under the rail line and agreements concerning them; electrification systems, if any; description of highway crossing warning systems (if any) and daily traffic counts at public and private at-grade highway crossings; existing and proposed railroad operations and routes of freight, commuter and intercity trains with train daily numbers of trains by type; a safety and security management plan; and STRACNET routes and/or moves for commercial high and wide loads. For maintenance facilities, the PE outputs will describe and provide drawings that show the location, track and facility layout, specialized equipment (if any), office and employee welfare facilities, etc.

FRA will be available, subject to available resources, to assist applicants in clarifying whether the PE is complete and encourages applicants to contact FRA to discuss PE.

Appendix 3: Additional Information on Award Administration

Appendix 3.1 General Requirements

Appendix 3.1.1 Standard Reporting Requirements

• Progress Reports—Progress reports are to be submitted quarterly. These reports must relate the state of completion of items in the statement of work to expenditures of the relevant budget elements. The grant recipient must furnish the quarterly progress report to the FRA on or before the 30th calendar day of the month following the end of the quarter being reported. Grantees must submit reports for the periods: January 1-March 31, April 1-June 30, July 1-September 30, and October 1-December 31. Each quarterly report must set forth concise statements concerning activities relevant to the project, and should include, but not be limited to, the following: (a) An account of significant progress (findings, events, trends, etc.) made during the reporting period; (b) a description of any technical and/or cost problem(s) encountered or anticipated that will affect completion of the grant within the time and fiscal constraints as set forth in this agreement, together with recommended solutions or corrective action plans (with dates) to such problems, or identification of specific action that is required by the FRA, or a statement that no problems were encountered; and (c) an outline of work and activities planned for the next reporting period.

• Quarterly Federal Financial Report (SF-425)—The Grantee must submit a quarterly Federal financial report electronically in the GrantSolutions system, on or before the thirtieth (30th) calendar day of the month following the end of the quarter being reported (e.g., for quarter ending March 31, the SF-425 is due no later than April 30). A report must be submitted for every quarter of the period of performance, including partial calendar quarters, as well as for periods where no grant activity occurs. The Grantee must use SF-425, Federal Financial Report, in accordance with the instructions accompanying the form, to report all transactions, including Federal cash, Federal expenditures and unobligated balance, recipient share, and program income.

• Interim Report(s)—If required, interim reports will be due at intervals specified in the statement of work and must be submitted electronically in the GrantSolutions system.

• Final Report(s)—Within 90 days of the Project completion date or termination by FRA, the Grantee must submit a Summary Project Report in the GrantSolutions system. A final version of this report, detailing the results and benefits of the Grantee's improvement efforts, must be furnished by the expiration date of the project period.

Appendix 3.1.2 Audit Requirements

Grant recipients that expend $500,000 or more of Federal funds during their fiscal year are required to submit an organization-wide financial and compliance audit report. The audit must be performed in accordance with U.S. Government Accountability Office, Government Auditing Standards, located at http://www.gao.gov/govaud/ybk01.htm, and OMB Circular A-133, Audits of States, Local Governments, and Non-Profit Organizations, located at http://www.whitehouse.gov/omb/circulars/a133/a133.html. Currently, audit reports must be submitted to the Federal Audit Clearinghouse no later than nine months after the end of the recipient's fiscal year. In addition, FRA and the Comptroller General of the United States must have access to any books, documents, and records of grant recipients for audit and examination purposes. The grant recipient will also give FRA or the Comptroller, through any authorized representative, access to, and the right to examine all records, books, papers or documents related to the grant. Grant recipients must require that sub-grantees comply with the audit requirements set forth in OMB Circular A-133. Grant recipients are responsible for ensuring that sub-recipient audit reports are received and for resolving any audit findings.

Appendix 3.1.3 Monitoring Requirements

Grant recipients will be monitored periodically by FRA to ensure that the project goals, objectives, performance requirements, timelines, milestones, budgets, and other related program criteria are being met. FRA will conduct monitoring activities through a combination of office-based reviews and onsite monitoring visits. Monitoring will involve the review and analysis of the financial, programmatic, and administrative issues relative to each program and will identify areas where technical assistance and other support may be needed. The recipient is responsible for monitoring award activities, including sub-awards and sub-grantees, to provide reasonable assurance that the award is being administered in compliance with Federal requirements. Financial monitoring responsibilities include the accounting of recipients and expenditures, cash management, maintaining of adequate financial records, and refunding expenditures disallowed by audits.

Appendix 3.1.4 Closeout Process

Project closeout occurs when all required project work and all administrative procedures described in 49 CFR part 18, or 49 CFR part 19, as applicable, have been completed, and when FRA notifies the grant recipient and forwards the final Federal assistance payment, or when FRA acknowledges the grant recipient's remittance of the proper refund. Project closeout should not invalidate any continuing obligations imposed on the Grantee by an award or by the FRA's final notification or acknowledgment. Within 90 days of the Project completion date or termination by FRA, Grantees agree to submit a final Federal Financial Report (Standard Form 425), a certification or summary of project expenses, a final report, and third party audit reports, as applicable.

Appendix 4: Additional Information on Application Budgets

Applicants must present a detailed budget for the proposed project that includes both Federal funds and matching funds. Items of cost included in the budget must be reasonable, allocable and necessary for the project. At a minimum, the budget should separate total cost of the project into the following categories:

• Personnel: List each position by title and name of employee, if available, show the annual salary rate and the percentage of time to be devoted to the project. Compensation paid for employees engaged in grant activities must be consistent with that paid for similar work within the applicant organization.

• Fringe Benefits: Fringe benefits should be based on actual known costs or an established formula. Fringe benefits are for personnel listed in the “Personnel” budget category and only for the percentage of time devoted to the project.

• Travel: Itemize travel expenses of project personnel by purpose (training, interviews, and meetings). Show the basis of computation (e.g., X people to Y-day training at $A airfare, $B lodging, $C subsistence).

• Equipment: List non-expendable items that are to be purchased. Nonexpendable equipment is tangible property having a useful life of more than two years and an acquisition cost of $5,000 or more per unit. (Note: Organization's own capitalization policy may be used for items costing less than $5,000.) Expendable items should be included either in the “Supplies” category or in the “Other” category. Applicants should analyze the cost benefits of purchasing versus leasing equipment, especially high cost items and those subject to rapid technical advances. Rented or leased equipment should be listed in the “Contractual” category. Explain how the equipment is necessary for the success of the project. Attach a narrative describing the procurement method to be used.

• Supplies: List items by type (office supplies, postage, training materials, copying paper, and expendable equipment items costing less than $5,000) and show the basis for computation. (Note: Organization's own capitalization policy may be used for items costing less than $5,000.) Generally, supplies include any materials that are expendable or consumed during the course of the project.

• Consultants/Contracts: Indicate whether applicant's formal, written Procurement Policy (see 49 CFR 18.36 or 19.40-19.48) or the Federal Acquisition Regulations (FAR) are followed. Consultant Fees: For each consultant enter the name, if known, service to be provided, hourly or daily fee (8-hour day), and the estimated time on the project. Consultant Expenses: List all expenses to be paid from the grant to the individual consultants in addition to their fees (travel, meals, and lodging). Contracts: Provide a description of the product or service to be procured by contract and an estimate of the cost. Applicants are encouraged to promote free and open competition in awarding contracts. A separate justification must be provided for sole source contracts in excess of $100,000.

• Other: List items (rent, reproduction, telephone, janitorial or security services, etc.) by major type and the basis of the computation. For example, provide the square footage and the cost per square foot for rent, or provide the monthly rental cost and how many months to rent.

• Indirect Costs: Indirect costs are allowed only if the applicant has a Federally approved indirect cost rate. A copy of the rate approval, (a fully executed, negotiated agreement), must be attached. If the applicant does not have an approved rate, one can be requested by contacting the applicant's cognizant Federal agency, which will review all documentation and approve a rate for the applicant organization.

Issued in Washington, DC, on March 29, 2010.
Karen Rae,
Deputy Administrator.

[FR Doc. 2010-7340 Filed 3-31-10; 8:45 am]

BILLING CODE 4910-06-P